NUCLEAR REGULATORY COMMISSION

[Docket Nos. 50-334 and 50-412]

FirstEnergy Nuclear Operating Company, FirstEnergy Nuclear Generation Corp., Ohio Edison Company, The Toledo Edison Company, Beaver Valley Power Station, Unit Nos. 1 and 2; Notice of Issuance of Amendments to Facility Operating Licenses

The U.S. Nuclear Regulatory Commission (Commission) has issued Amendment No. 275 to Facility Operating License No. DPR-66 and Amendment No. 156 to Facility Operating License No. NPF-73 issued to FirstEnergy Nuclear Operating Company (the licensee), which revised the Technical Specifications (TSs) and licenses for operation of the Beaver Valley Power Station, Unit Nos. 1 and 2 (BVPS-1 and 2) located in Beaver County, Pennsylvania. The amendments are effective as of the date of issuance.

The amendments modified the TSs and licenses to increase the maximum authorized rated thermal power from 2689 megawatts thermal (MWt) to 2900 MWt for each unit. Additionally, the amendments approved full implementation of an alternative source term in accordance with Title 10 of the Code of Federal Regulations, Section 50.67, using the guidance in Regulatory Guide 1.183, “Alternative Radiological Source Terms for Evaluating Design Basis Accidents at Nuclear Power Plants.” The amendments also approved deletion of the power range neutron-flux high-negative rate trip, removal of the boron injection tank boron concentration and renaming the boron injection flow path for BVPS-1, the addition of a footnote to Table 3.3-3 for BVPS-1, and correction of an inconsistency regarding a referenced permissive for BVPS-1.

The application for the amendment complies with the standards and requirements of the Atomic Energy Act of 1954, as amended (the Act), and the Commission's rules and regulations. The Commission has made appropriate findings as required by the Act and the Commission's rules and regulations in 10 CFR Chapter I, which are set forth in the license amendment.

Notice of Consideration of Issuance of Amendments to Facility Operating Licenses and Opportunity for a Hearing in connection with this action was published in the Federal Register on August 17, 2005 (70 FR 48443). The supplemental letters dated February 23, May 26, June 14, July 8 and 28, August 26, September 6, October 7, 28, and 31, November 8, 18, and 21, December 2, 6, 9, 16, and 30, 2005, and January 25, February 14 and 22, March 10 and 29, May 12, and July 6, 2006, provided additional clarifying information that did not expand the scope of the initial application as published in the Federal Register. No request for a hearing or petition for leave to intervene was filed following this notice.

The Commission has prepared an Environmental Assessment related to the action and has determined not to prepare an environmental impact statement. Based upon the environmental assessment, the Commission has concluded that the issuance of the amendment will not have a significant effect on the quality of the human environment (71 FR 40162).

For further details with respect to the action see (1) the application for amendment dated October 4, 2004, as supplemented by letters dated February 23, May 26, June 14, July 8 and 28, August 26, September 6, October 7, 28, and 31, November 8, 18, and 21, December 2, 6, 9, 16, and 30, 2005, and January 25, February 14 and 22, March 10 and 29, May 12, and July 6, 2006, (2) Amendment No. 275 to License No. DPR-66, (3) Amendment No. 156 to License No. NPF-73, (4) the Commission's related Safety Evaluation, and (5) the Commission's Environmental Assessment. Documents may be examined, and/or copied for a fee, at the NRC's Public Document Room, located at One White Flint North, Public File Area O1 F21, 11555 Rockville Pike (first floor), Rockville, Maryland. Publicly available records will be accessible electronically from the Agencywide Documents Access and Management Systems (ADAMS) Public Electronic Reading Room on the Internet at the NRC Web site, http://www.nrc.gov/reading-rm/adams.html. Persons who do not have access to ADAMS or who encounter problems in accessing the documents located in ADAMS should contact the NRC Public Document Room Reference staff by telephone at 1-800-397-4209, or 301-415-4737, or by e-mail to pdr@nrc.gov.

Dated at Rockville, Maryland, this 19th day of July 2006.
For the Nuclear Regulatory Commission.
Timothy G. Colburn,
Senior Project Manager, Plant Licensing Branch I-1, Division of Operating Reactor Licensing, Office of Nuclear Reactor Regulation.

[FR Doc. E6-11918 Filed 7-25-06; 8:45 am]

BILLING CODE 7590-01-P